LEGAL SERVICES CORPORATION

Sunshine Act Meetings Notice

DATE AND TIME: The Legal Services Corporation's Board of Directors and its six committees will meet on July 27, 2012. The meetings will occur in the order noted below, with the first meeting commencing at 8:30 a.m., Eastern Daylight Time, and each meeting thereafter commencing promptly upon adjournment of the immediately preceding meeting. The exception will be the meetings of the Institutional Advancement Committee and the Audit Committee, which will run concurrently immediately upon conclusion of the meeting of the Governance and Performance Review Committee.

LOCATION: Sheraton Ann Arbor Hotel, 3200 Boardwalk Drive, Ann Arbor, Michigan 48108.

PUBLIC OBSERVATION: Unless otherwise noted herein, the Board and all committee meetings will be open to public observation. Members of the public who are unable to attend in person but wish to listen to the public proceedings may do so by following the telephone call-in directions provided below but are asked to keep their telephones muted to eliminate background noises. To avoid disrupting the meeting, please refrain from placing the call on hold. From time to time, the presiding Chair may solicit comments from the public.

CALL-IN DIRECTIONS FOR OPEN SESSIONS:

• Call toll-free number: 1-866-451-4981;

• When prompted, enter the following numeric pass code: 5907707348;

• When connected to the call, please immediately “Mute” your telephone.

* Please note that all times in this notice are in the Eastern Daylight Time.

Meeting Schedule

Friday, July 27, 2012 | Time*
1. Governance & Performance Review Committee | 8:30 a.m.
2. Institutional Advancement Committee **
3. Audit Committee **
4. Finance Committee
5. Promotion & Provision for the Delivery of Legal Services Committee
6. Operations & Regulations Committee
7. Board of Directors

STATUS OF MEETING: Open, except as noted below.

Board of Directors—Open, except that, upon a vote of the Board of Directors, a portion of the meeting may be closed to the public to hear briefings by management and LSC's Inspector General, and to consider and act on the General Counsel's report on potential and pending litigation involving LSC.***

** The meeting of the Institutional Advancement Committee will run concurrently with the meeting of the Audit Committee.

*** Any portion of the closed session consisting solely of briefings does not fall within the Sunshine Act's definition of the term “meeting” and, therefore, the requirements of the Sunshine Act do not apply to such portion of the closed session. 5 U.S.C. 552b(a)(2) and (b). See also 45 CFR 1622.2 and 1622.3.

Institutional Advancement Committee—Open, except that, upon a vote of the Board of Directors, the meeting may be closed to the public to hear a briefing from a development consultant and to consider and act on a draft development plan for the Corporation.

A verbatim written transcript will be made of the closed session of the Board and Institutional Advancement Committee meetings. The transcript of any portions of the closed session falling within the relevant provisions of the Government in the Sunshine Act, 5 U.S.C. § 552b(c)(9) and (10), and the corresponding provision of the Legal Services Corporation's implementing regulations, 45 CFR 1622.5(g) and (h), will not be available for public inspection. A copy of the General Counsel's Certification that in his opinion the closing is authorized by law will be available upon request.

MATTERS TO BE CONSIDERED:

Governance & Performance Review Committee

1. Approval of agenda.

2. Approval of minutes of the Committee's meeting of April 15, 2012.

3. Staff report on certification letter sent to House and Senate Appropriations Committees.

4. Staff report on progress in implementing GAO recommendations.

5. Consider and act on other business.

6. Public comment.

7. Consider and act on motion to adjourn meeting.

Audit Committee

1. Approval of agenda.

2. Approval of minutes of the Committee's June 25, 2012 meeting.

3. Report on 403(b) annual plan review and update on annual audit.

• Traci Higgins, Director, Office of Human Resources.

4. Consider and act on revised Audit Committee charter.

5. Briefing by Office of Inspector General.

• Jeffrey Schanz, Inspector General.

6. Public comment.

7. Consider and act on other business.

8. Consider and act on adjournment of meeting.

Institutional Advancement Committee

Open Session

1. Approval of agenda.

2. Approval of minutes of the Committee's meeting of April 15, 2012.

3. Discussion of Committee work for August—September.

4. Public comment.

5. Consider and act on other business.

Closed Session

6. Briefing by Bob Osborne Development Consultant.

7. Consider and act on a draft Development Plan for the Corporation.

8. Consider and act on motion to adjourn the meeting.

Finance Committee

1. Approval of agenda.

2. Presentation on LSC's Financial Reports for the first eight months of FY 2012.

• Presentation by David Richardson, Treasurer/Comptroller.

3. Consider and act on a Revised Consolidated Operating Budget for FY 2012, including internal budgetary adjustments and COB reallocation, and recommendation of Resolution 2012-XXX to the Board of Directors.

Presentation by David Richardson, Treasurer/Comptroller.

4. Review of the Guidelines for Adoption, Review and Modification of the Consolidated Operating Budget.

Presentation by David Richardson, Treasurer/Comptroller.

5. Discussion regarding the status of the FY 2013 appropriation process.

Carol Bergman, Director, Government Relations and Public Affairs.

6. Consider and act on recommendation to the Board of Directors for FY 2014 Budget Request.

Presentation by Carol Bergman, Director, Government Relations and Public Affairs.

Comments by David Richardson, Treasurer/Comptroller.

7. Public comment.

8. Consider and act on other business.

9. Consider and act on adjournment of meeting.

Promotion & Provision for the Delivery of Legal Services Committee

1. Approval of Agenda.

2. Approval of Minutes of the Committee's meeting of April 16, 2012.

3. Panel Presentation on diversification and expansion of revenue sources.

• Moderator—Meredith McBurney, Resource Development Consultant for ABA Resource Center for Access to Justice Initiatives and Management Information Exchange.

• Steven Gottlieb, Executive Director, Atlanta Legal Aid Society.

• Daniel Glazier, Executive Director, Legal Services of Eastern Missouri.

• Jennifer Bentley, Manager of Outreach and Development, Legal Services of South Central Michigan.

• Deierdre Weir, Executive Director, Legal Aid and Defender Association.

4. Public comment.

5. Consider and act on other business.

6. Consider and act on motion to adjourn the meeting.

Operations & Regulations Committee

1. Approval of agenda.

2. Approval of minutes of the Committee's meeting of June 18, 2012.

3. Consider and act on proposed revisions to the Committee's charter.

4. Consider and act on possible revisions to the Corporation's Continuation of Operations Plan (“COOP”).

5. Consider and act on rulemaking on grant termination procedures, enforcement mechanisms, and suspension procedures.

Mark Freedman, Senior Assistant General Counsel.

Matthew Glover, Associate Counsel to the Inspector General.

Public comment.

6. Public comment.

7. Consider and act on other business.

8. Consider and act on adjournment of meeting.

Board of Directors

1. Pledge of Allegiance.

2. Approval of agenda.

3. Approval of Minutes of the Board's meeting of May 21, 2012.

4. Presentation of the Report of the Pro Bono Task Force.

5. Consider and act on the draft Strategic Plan.

6. Chairman's Report.

7. Members' Reports.

8. President's Report.

9. Inspector General's Report.

10. Consider and act on the report of the Promotion and Provision for the Delivery of Legal Services Committee.

11. Consider and act on the report of the Finance Committee.

12. Consider and act on the report of the Audit Committee.

13. Consider and act on the report of the Operations and Regulations Committee.

14. Consider and act on the report of the Governance and Performance Review Committee.

15. Consider and act on the report of the Institutional Advancement Committee.

16. Consider and act on delegation of authority to the LSC Board Chairman to appoint non-directors to serve on LSC Board committees.

17. Consider and act on a resolution acknowledging the recent passing of former LSC Board member Thomas A. Fuentes.

18. Public comment.

19. Consider and act on other business.

20. Consider and act on whether to authorize an executive session of the Board to address items listed below, under Closed Session.

Closed Session

21. Approval of minutes of the Board's closed session meeting of April 16, 2012.

22. Briefing by Management.

23. Briefing by the Inspector General.

24. Consider and act on General Counsel's report on potential and pending litigation involving LSC.

25. Consider and act on motion to adjourn meeting.

CONTACT PERSON FOR INFORMATION: Katherine Ward, Executive Assistant to the Vice President & General Counsel, at (202) 295-1500. Questions may be sent by electronic mail to FR_NOTICE_QUESTIONS@lsc.gov..

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 17, 2012.
Victor M. Fortuno,
Vice President & General Counsel.

[FR Doc. 2012-17775 Filed 7-17-12; 4:15 pm]

BILLING CODE 7050-01-P